DEPARTMENT OF HEALTH AND HUMAN SERVICES

Office of the Assistant Secretary for Preparedness and Response; HHS Public Health Emergency Medical Countermeasures Enterprise Stakeholders Workshop 2008.

AGENCY: Department of Health and Human Services.

ACTION: Notice of meeting.

Subagency: Office of the Secretary.

Subject: HHS Public Health Emergency Medical Countermeasures Enterprise (PHEMCE) Stakeholders Workshop 2008.

Authority: Dr. Gerald Parker, Principal Deputy Assistant Secretary, Office of the Assistant Secretary for Preparedness and Response (ASPR).

SUMMARY: The Department of Health and Human Services (HHS) is pleased to announce the upcoming HHS Public Health Emergency Medical Countermeasures Enterprise (PHEMCE) Stakeholders Workshop 2008, to be held September 24-26, 2008, in Arlington, VA. This third annual event will provide an open forum for pharmaceutical and biotechnology industry representatives, state and local first responders, Executive Branch officials, public health advocates, academicians, Congressional staff, and other key stakeholders to discuss critical issues surrounding the development, acquisition, and distribution of medical countermeasures against chemical, biological, radiological, nuclear, and naturally emerging threats, and to share their visions for the future of U.S. public health emergency preparedness. Featured topics will include PHEMCE progress over the past year in medical countermeasure development and acquisitions under the HHS PHEMCE Implementation Plan for Chemical, Biological, Radiological and Nuclear Threats and the HHS Pandemic Influenza Implementation Plan; Biomedical Advanced Research and Development Authority (BARDA) anticipated advanced development contracts and procurements under Project BioShield; medical countermeasure use at the point of care; Pandemic and All-Hazards Preparedness Act (PAHPA) implementation; and developing and sustaining a biodefense industry. This year's Workshop will also feature BARDA Industry Afternoons and evening poster sessions, designed to provide unique opportunities for biotechnology and pharmaceutical industry representatives to showcase cutting-edge biodefense medical countermeasure advances in the areas of vaccines, therapeutics, diagnostics, and platform technologies.

DATES: The Workshop will be held September 24-26, 2008. Each day will begin at 8 a.m.

ADDDRESSES: The Workshop will be held at the Crystal Gateway Marriott, 1700 Jefferson Davis Highway, Arlington, VA 22202.

Agenda: The preliminary agenda is available at: http://www.blsmeetings.net/phemc/informationagenda.cfm.

Registration: There is no fee to attend; however, space is limited and registration is required. Register online at http://www.blsmeetings.net/phemc/registration.cfm.

DATES: This notice is effective 27 May 2008.

FOR FURTHER INFORMATION CONTACT: Joanna M. Prasher, Ph.D., Office of the Biomedical Advanced Research and Development Authority, Office of the Assistant Secretary for Preparedness and Response at 330 Independence Ave., SW., Room G640, Washington, DC 20201, e-mail at BARDA@hhs.gov, or by phone at 202-260-1200.

Dated: May 29, 2008.
Robin A. Robinson,
Director, Biomedical Advanced Research and Development Authority.

[FR Doc. E8-12485 Filed 6-3-08; 8:45 am]

BILLING CODE 4163-10-P